DEPARTMENT OF LABOR

Office of the Secretary

Submission for OMB Review; Comment Request

April 8, 2005.

The Department of Labor (DOL) has submitted the following public information collection request (ICR) to the Office of Management and Budget (OMB) for review and approval in accordance with the Paperwork Reduction Act of 1995 (Pub. L. 104-13, 44 U.S.C. Chapter 35). A copy of each ICR, with applicable supporting documentation, may be obtained by contacting the Department of Labor (DOL). To obtain documentation, contact Ira Mills on 202-693-4122 (this is not a toll-free number) or e-mail: mills.ira@dol.gov.

Comments should be sent to Office of Information and Regulatory Affairs, Attn: OMB Desk Officer for DOL, Office of Management and Budget, Room 10235, Washington, DC 20503; 202-395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment and Training Administration.

Type of Review: Extension of a currently approved collection.

Title: Workforce Flexibility (Work-Flex) Program.

OMB Number: 1205-0432.

Frequency: Quarterly; and annually.

Affected Public: State, local, or tribal government.

Number of Respondents: 5.

Number of Annual Responses: 25.

Burden Estimates:

Form/activity | Total respondents | Frequency | Total responses | Average time per response (in hours) | Burden hours
State Plan | 5 | Annually | 5 | 160 | 800
Quarterly Report | 5 | Quarterly | 20 | 8 | 160
Totals |  |  | 25 |  | 960

Total Burden Hours: 960.

Total annualized capital/startup costs: $0.

Total annual costs (operating/maintaining systems or purchasing services): $0.

Description: Governors may request waiver authority from the Secretary of Labor to waive certain provisions of the Workforce Investment Act Title I programs. Applications are submitted to the ETA National Office on behalf of states and local areas to implement reforms of State Workforce Investment systems.

Ira L. Mills,
Departmental Clearance Officer/Team Leader.

[FR Doc. 05-7492 Filed 4-13-05; 8:45 am]

BILLING CODE 4510-30-P